Executive Order 14175 of January 22, 2025

Designation of Ansar Allah as a Foreign Terrorist Organization

By the authority vested in me as President by the Constitution and the laws of the United States of America, including the Immigration and Nationality Act (8 U.S.C. 1101 et seq.) (INA), it is hereby ordered as follows:

Section 1. Purpose. This order sets in motion a process by which Ansar Allah, also known as the Houthis, shall be considered for designation as a Foreign Terrorist Organization, consistent with section 219 of the INA (8 U.S.C. 1189).

Supported by Iran's Islamic Revolutionary Guard Corps Quds Force (IRGC-QF), which arms and trains terrorist organizations worldwide, the Houthis have fired at U.S. Navy warships dozens of times since 2023, endangering American men and women in uniform. Since seizing most Yemeni population centers by force from the legitimate Yemeni government in 2014-2015, the Houthis have launched numerous attacks on civilian infrastructure, including multiple attacks on civilian airports in Saudi Arabia, the deadly January 2022 attacks on the United Arab Emirates, and more than 300 projectiles fired at Israel since October 2023. The Houthis have also attacked commercial vessels transiting Bab al-Mandeb more than 100 times, killing at least four civilian sailors and forcing some Red Sea maritime commercial traffic to reroute, which has contributed to global inflation.

The Houthis' activities threaten the security of American civilians and personnel in the Middle East, the safety of our closest regional partners, and the stability of global maritime trade.

Sec. 2. Policy. It is the policy of the United States to cooperate with its regional partners to eliminate Ansar Allah's capabilities and operations, deprive it of resources, and thereby end its attacks on U.S. personnel and civilians, U.S. partners, and maritime shipping in the Red Sea.

Sec. 3. Implementation. (a) Within 30 days of the date of this order, the Secretary of State shall, after consultation with the Director of National Intelligence and the Secretary of the Treasury, submit a report to the President, through the National Security Council, concerning the designation of Ansar Allah as a foreign terrorist organization consistent with 8 U.S.C. 1189.

(b) Within 15 days after submitting the report required under subsection (a) of this section, the Secretary of State shall take all appropriate action, consistent with 8 U.S.C. 1189, with regard to a designation of Ansar Allah as a terrorist organization.

(c) Following any designation of Ansar Allah as a foreign terrorist organization under 8 U.S.C. 1189, the Secretary of State and the Administrator of the United States Agency for International Development (USAID) shall jointly conduct a review of the United Nations partners, nongovernmental organizations, and contractors through which USAID works in Yemen, and identify any entities with a relationship with USAID that have:

(i) made payments to members of, or governmental entities controlled by, Ansar Allah; or

(ii) criticized international efforts to counter Ansar Allah while failing to document Ansar Allah's abuses sufficiently.

(d) The Administrator of USAID shall take all appropriate action to terminate the projects, grants, or contracts identified under subsection (c) of this section as appropriate.

Sec. 4. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 22, 2025.

[FR Doc. 2025-02103

Filed 1-30-25; 8:45 am]

Billing code 3395-F4-P